Title 3—

The President

Memorandum of June 16, 2022

Establishment of the White House Task Force to Address Online Harassment and Abuse

Memorandum for the Heads of Executive Departments and Agencies

By the authority vested in me as President by the Constitution and the laws of the United States of America, and in order to improve efforts to prevent and address online harassment and abuse, it is hereby ordered as follows:

Section 1. Policy. Technology platforms and social media can be vital tools for expression, civic participation, and building a sense of community. But the scale, reach, and amplification effects of technology platforms have also exacerbated gender-based violence, particularly through online harassment and abuse. Online harassment and abuse include a broad array of harmful and sometimes illegal behaviors that are perpetrated through the use of technology. Women, adolescent girls, and LGBTQI+ individuals, who may be additionally targeted because of their race, ethnicity, religion, and other factors, can experience more severe harms from online harassment and abuse. Online harassment and abuse take many forms, including the non-consensual distribution of intimate digital images; cyberstalking; sextortion; doxing; malicious deep fakes; gendered disinformation; rape and death threats; the online recruitment and exploitation of victims of sex trafficking; and various forms of technology-facilitated intimate partner abuse. In the United States, 1 in 3 women under the age of 35 reports having been sexually harassed online, and over half of LGBTQI+ individuals report having been the target of severe online abuse, including sustained harassment, physical threats, and stalking in addition to sexual harassment. Globally, half of girls report that they are more likely to be harassed through social media than on the street.

In the United States and around the world, women and LGBTQI+ political leaders, public figures, activists, and journalists are especially targeted by sexualized forms of online harassment and abuse, undermining their ability to exercise their human rights and participate in democracy, governance, and civic life. Online abuse and harassment, which aim to preclude women from political decision-making about their own lives and communities, undermine the functioning of democracy. Growing evidence also demonstrates that online radicalization can be linked to gender-based violence, which, along with other forms of abuse and harassment, spans the digital and physical realms. Online harassment and abuse can result in a range of dire consequences for victims, from psychological distress and self-censorship to economic losses, disruptions to education, increased self-harm, suicide, homicide, and other forms of physical and sexual violence. Further, digital technologies are often used in concert with other forms of abuse and harassment, underscoring the urgency of addressing the interplay of in-person and online harms. More research is needed to fully understand the nature, magnitude, and costs of these harms and ways to address them in the United States and globally.

Therefore, I am directing the Director of the White House Gender Policy Council and the Assistant to the President for National Security Affairs to lead an interagency effort to address online harassment and abuse, specifically focused on technology-facilitated gender-based violence, and to develop concrete recommendations to improve prevention, response, and protection efforts through programs and policies in the United States and globally.

Sec. 2. Establishment. There is established within the Executive Office of the President the White House Task Force to Address Online Harassment and Abuse (Task Force).

Sec. 3. Membership. (a) The Director of the White House Gender Policy Council and the Assistant to the President for National Security Affairs, or their designees, shall serve as Co-Chairs of the Task Force.

(b) In addition to the Co-Chairs, the Task Force shall consist of the following members:

(i) the Secretary of State;

(ii) the Secretary of Defense;

(iii) the Attorney General;

(iv) the Secretary of Commerce;

(v) the Secretary of Health and Human Services;

(vi) the Secretary of Education;

(vii) the Secretary of Veterans Affairs;

(viii) the Secretary of Homeland Security;

(ix) the Director of the Office of Science and Technology Policy;

(x) the Assistant to the President and Director of the Domestic Policy Council;

(xi) the Assistant to the President for Economic Policy and Director of the National Economic Council;

(xii) the Administrator of the United States Agency for International Development;

(xiii) the Counsel to the President;

(xiv) the Counsel to the Vice President; and

(xv) the heads of such other executive departments, agencies, and offices as the Co-Chairs may, from time to time, designate.

(c) A member of the Task Force may designate, to perform the Task Force functions of the member, senior officials within the member's executive department, agency, or office who are full-time officers or employees of the Federal Government.

Sec. 4. Mission and Function. (a) The Task Force shall work across executive departments, agencies, and offices to assess and address online harassment and abuse that constitute technology-facilitated gender-based violence, including by:

(i) improving coordination among executive departments, agencies, and offices to maximize the Federal Government's effectiveness in preventing and addressing technology-facilitated gender-based violence in the United States and globally, including by developing policy solutions to enhance accountability for those who perpetrate online harms;

(ii) enhancing and expanding data collection and research across the Federal Government to measure the costs, prevalence, exposure to, and impact of technology-facilitated gender-based violence, including by studying the mental health effects of abuse on social media, particularly affecting adolescents;

(iii) increasing access to survivor-centered services, information, and support for victims, and increasing training and technical assistance for Federal, State, local, Tribal, and territorial governments as well as for global organizations and entities in the fields of criminal justice, health and mental health services, education, and victim services;

(iv) developing programs and policies to address online harassment, abuse, and disinformation campaigns targeting women and LGBTQI+ individuals who are public and political figures, government and civic leaders, activists, and journalists in the United States and globally;

(v) examining existing Federal laws, regulations, and policies to evaluate the adequacy of the current legal framework to address technology-facilitated gender-based violence; and

(vi) identifying additional opportunities to improve efforts to prevent and address technology-facilitated gender-based violence in United States foreign policy and foreign assistance, including through the Global Partnership for Action on Gender-Based Online Harassment and Abuse.

(b) Consistent with the objectives of this memorandum and applicable law, the Task Force may consult with and gather relevant information from external stakeholders, including Federal, State, local, Tribal, and territorial government officials, as well as victim advocates, survivors, law enforcement personnel, researchers and academics, civil and human rights groups, philanthropic leaders, technology experts, legal and international policy experts, industry stakeholders, and other entities and persons the Task Force identifies that will assist the Task Force in accomplishing the objectives of this memorandum.

Sec. 5. Reporting on the Work and Recommendations of the Task Force. (a) Within 180 days of the date of this memorandum, the Co-Chairs of the Task Force shall submit to the President a blueprint (Initial Blueprint) outlining a whole-of-government approach to preventing and addressing technology-facilitated gender-based violence, including concrete actions that executive departments, agencies, and offices have committed to take to implement the Task Force's recommendations. The Initial Blueprint shall include a synopsis of key lessons from stakeholder consultations and preliminary recommendations for advancing strategies to improve efforts to prevent and address technology-facilitated gender-based violence. Following submission of the Initial Blueprint to the President, the Co-Chairs of the Task Force shall make an executive summary of the Initial Blueprint publicly available.

(b) Within 1 year of the date that the Initial Blueprint is submitted to the President, the Co-Chairs of the Task Force shall submit to the President and make publicly available an update and report (1-Year Report) with additional recommendations and actions that executive departments, agencies, and offices can take to advance how Federal, State, local, Tribal, and territorial governments; service providers; international organizations; technology platforms; schools; and other public and private entities can improve efforts to prevent and address technology-facilitated gender-based violence.

(c) Prior to issuing its Initial Blueprint and 1-Year Report, the Co-Chairs of the Task Force shall consolidate any input received and submit periodic recommendations to the President on policies, regulatory actions, and legislation on technology sector accountability to address systemic harms to people affected by online harassment and abuse.

(d) Following the submission of the 1-Year Report to the President, the Co-Chairs of the Task Force shall, on an annual basis, submit a follow-up report to the President on implementation of this memorandum.

Sec. 6. Definition. For the purposes of this memorandum, the term “technology-facilitated gender-based violence” shall refer to any form of gender-based violence, including harassment and abuse, which takes place through, or is aided by, the use of digital technologies and devices.

Sec. 7. General Provisions. (a) Nothing in this memorandum shall be construed to impair or otherwise affect:

(i) the authority granted by law to an executive department or agency, or the head thereof; or

(ii) the functions of the Director of the Office of Management and Budget relating to budgetary, administrative, or legislative proposals.

(b) This memorandum shall not apply to independent regulatory agencies as described in section 3502(5) of title 44, United States Code. Independent regulatory agencies are nevertheless strongly encouraged to participate in the work of the Task Force.

(c) This memorandum shall be implemented consistent with applicable law and subject to the availability of appropriations.

(d) This memorandum is not intended to, and does not, create any right or benefit, substantive or procedural, enforceable at law or in equity by any party against the United States, its departments, agencies, or entities, its officers, employees, or agents, or any other person.

(e) The Attorney General is authorized and directed to publish this memorandum in the Federal Register.

THE WHITE HOUSE,

Washington, June 16, 2022

[FR Doc. 2022-13496

Filed 6-21-22; 11:15 am]

Billing code 4410-19-P